DEPARTMENT OF AGRICULTURE

Foreign Agricultural Service

Commodity Credit Corporation

Notice of Request for Extension of Currently Approved Information Collection

AGENCY: Foreign Agricultural Service and Commodity Credit Corporation, USDA.

ACTION: Notice and request for comments.

SUMMARY: In accordance with the Paperwork Reduction Act of 1995, this notice announces the Foreign Agricultural Service's (FAS) intention to request on behalf of the Commodity Credit Corporation (CCC) an extension from the Office of Management and Budget (OMB) for a currently approved information collection in support of the Technical Assistance for Specialty Crops (TASC) program.

DATES: Comments on this notice must be received by August 5, 2025 to be assured of consideration.

ADDRESSES: You may send comments, identified by OMB Control Number 0551-0038, by any of the following methods:

• Federal eRulemaking Portal: http://www.regulations.gov. This portal enables respondents to enter short comments or attach a file containing lengthier comments.

• Email: PODadmin@usda.gov. Include OMB Control Number 0551-0038 in the subject line of the message.

• Mail, Courier, or Hand Delivery: Curt Alt, U.S. Department of Agriculture, Foreign Agricultural Service, 1400 Independence Avenue SW, Room 6512, Washington, DC 20250.

Instructions: All submissions received must include the agency names and OMB Control Number for this notice. All comments received will be posted without change to http://www.regulations.gov, including any personal information provided.

FOR FURTHER INFORMATION CONTACT: Curt Alt, 202 690-4784, Podadmin@usda.gov.

SUPPLEMENTARY INFORMATION:

Title: Technical Assistance for Specialty Crops.

OMB Number: 0551-0038.

Expiration Date of Approval: August 31, 2025.

Type of Request: Extension of a currently approved information collection.

Abstract: This information is needed to administer CCC's TASC program. The information will be gathered from applicants desiring to receive grants under the program to determine the viability of the request for funds. Regulations governing the program appear at 7 CFR part 1487 and are available on the Foreign Agricultural Service's website.

Estimate of Burden: The agency estimates that the public reporting burden for the associated collection of information averages 50 hours per respondent.

Respondents: U.S. government agencies, State government agencies, non-profit trade associations, universities, agricultural cooperatives, and private companies.

Estimated Number of Respondents: 25.

Estimated Time per Respondent: 50 hours.

Estimated Total Annual Burden on Respondents: 1,250 hours.

Copies of this information collection can be obtained from Kenneth Vernon, the Agency Information Collection Coordinator, at kenneth.vernon@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at https://www.regulations.gov and at the mail address listed above between 8:00 a.m. and 4:30 p.m., Monday through Friday, except holidays.

Comments will be summarized and included in the submission for Office of Management and Budget approval.

Persons with disabilities who require an alternative means for communication of information (Braille, large print, audiotape, etc.) should contact FAS-ReasonableAccommodation@usda.gov.

William L. Beam,
Administrator, Commodity Credit Corporation.
Daniel Whitley,
Administrator, Foreign Agricultural Service.

[FR Doc. 2025-10293 Filed 6-5-25; 8:45 am]

BILLING CODE 3410-10-P